DEPARTMENT OF HOMELAND SECURITY

Coast Guard

[USCG-2004-18502]

Merchant Marine Personnel Advisory Committee

AGENCY: Coast Guard, DHS.

ACTION: Notice of meeting.

SUMMARY: A working group of the Merchant Marine Personnel Advisory Committee (MERPAC) will meet to discuss task statement #43 concerning recommendations on a training and assessment program for able-bodied seamen on sea-going vessels. MERPAC advises the Secretary of Homeland Security on matters relating to the training, qualifications, licensing, certification, and fitness of seamen serving in the U.S. merchant marine. This meeting will be open to the public.

DATES: The MERPAC working group will meet on Monday, August 16, 2004 from 8:30 a.m. to 4 p.m. (local), and Tuesday, August 17, 2004, from 8:30 a.m. to noon (local). This meeting may adjourn early if all business is finished. Request to make oral presentations should reach the Coast Guard on or before August 2, 2004. Written material and requests to have a copy of your material distributed to each member of the working group should reach the Coast Guard on or before August 2, 2004.

ADDRESSES: The working group of MERPAC will meet at The Mariners House, 11 North Square, Boston, Massachusetts. Send written material and requests to make oral presentations to Mr. Mark Gould, Commandant (G-MSO-1), U.S. Coast Guard Headquarters, 2100 Second Street, SW., Washington, DC 20593-0001. This notice is available on the Internet at http://dms.dot.gov.

FOR FURTHER INFORMATION CONTACT: For questions on this notice, contact Mr. Mark C. Gould, Assistant to the Executive Director, telephone 202-267-6890, fax 202-267-4570, or e-mail mgould@comdt.uscg.mil. Further directions regarding the location of The Mariners House may be obtained by contacting Captain Michael Cicalese at (617) 227-3979.

SUPPLEMENTARY INFORMATION: Notice of this meeting is given under the Federal Advisory Committee Act, 5 U.S.C. App. 2.

Agenda of August 16-17, 2004 Meeting: The working group will meet to discuss Task Statement #43 “Recommendations on a Training and Assessment Program for Able-Bodied Seamen on Sea-going Vessels”, which is available in Docket #[USCG-2004-18502]. The working group will develop a training program containing the minimum requirements for certification as an able-bodied seaman on sea-going vessels under the International Convention on Standards of Training, Certification and Watchkeeping for Seafarers (STCW), as amended. The working group will develop the training program into a table format similar to Section A of the STCW Code available for purchase from the International Maritime Organization, 4 Albert Embankment, London SE1 7SR, England. At the end of the meeting, the working group will re-cap its discussions and prepare the table for the full committee to consider at its next meeting.

Procedural

This meeting is open to the public. Please note that the meeting may adjourn early if all business is finished. At the Chair's discretion, members of the public may make oral presentations during the meeting. If you would like to make an oral presentation at the meeting, please notify Mr. Gould no later than August 2, 2004. Written material for distribution at the meeting should reach the Coast Guard no later than August 2, 2004. If you would like copy of your material distributed to each member of the committee or working group in advance of the meeting, please submit 25 copies to Mr. Gould no later than August 2, 2004.

Information on Services for Individuals With Disabilities

For information on facilities or services for individuals with disabilities or to request special assistance at the meeting, contact Mr. Gould at the number listed in FOR FURTHER INFORMATION CONTACT as soon as possible.

Dated: June 28, 2004.
Joseph J. Angelo,
Director of Standards, Marine Safety, Security and Environmental Protection.

[FR Doc. 04-15113 Filed 7-1-04; 8:45 am]

BILLING CODE 4910-15-P